DEPARTMENT OF THE INTERIOR

Bureau of Land Management

[LLES930000/L51100000/LVEMM1450000/GA0000/xxx]

Notice of Availability of the Environmental Assessment for the Warrior Met Coal, Inc. Lease-by-Application ALES-55797, Tuscaloosa County, AL; Notice of Public Hearing, and Request for Comment on Environmental Assessment, Maximum Economic Recovery, and Fair Market Value

AGENCY: Bureau of Land Management, Interior.

ACTION: Notice of availability and public hearing.

SUMMARY: The Bureau of Land Management (BLM) Eastern States Office (ESO) announces that an Environmental Assessment (EA) for the Warrior Met Coal, Inc. Coal Lease-by-Application (LBA), serial number ALES-55797, is available for public review and comment. The BLM is also announcing that it will hold a virtual public hearing to receive comments on the LBA, EA, Fair Market Value (FMV), and Maximum Economic Recovery (MER) of the coal resources contained in the proposed LBA lease tract. You can register to attend the virtual public meeting using the link provided below. Once registered, you will receive instructions for participating online or by phone.

DATES: To maximize the opportunity for public input while prioritizing the health and safety of BLM employees and the interested public, BLM will host the public hearing virtually via Zoom. The date and information on how to login and participate in this virtual public hearing will be announced at least 15 days in advance through local media and on the BLM website at https://eplanning.blm.gov/eplanning-ui/project/53496. Once registered, you will receive instructions for participating online or by phone. Written or electronic comments should be submitted or postmarked no later than September 24, 2020.

ADDRESSES: Comments related to the LBA, EA, FMV, and MER, may be uploaded to the BLM's ePlanning website for Warrior Met Coal, Inc. LBA-ALES-55797, linked here: https://eplanning.blm.gov/eplanning-ui/project/53496 or mailed to Sabry Hanna at the BLM Eastern States Office address below. Comments may also be faxed to 202-912-7186, Attention: Sabry Hanna. Submitted comments related to the Warrior Met Coal, Inc. LBA, EA, FMV, and MER for the tract will be available for public inspection at the BLM-Eastern States Office, Division of Lands and Minerals, 5275 Leesburg Pike, Falls Church, VA, 22041.

Please note that any details and updates made to any aspect of the hearing will be posted on the BLM ePlanning web page.

In accordance with the Federal coal management regulations, 43 CFR 3422 and 3425, not less than 30 days prior to the publication of a notice of sale, the Secretary shall solicit public comments on FMV and MER and on factors that may affect these two determinations. Proprietary data marked as confidential may be submitted to Mr. Hanna in writing or faxed in response to this solicitation for public comments. Data so marked shall be treated in accordance with the laws and regulations governing the confidentiality of such information. A copy of the comments submitted by the public on FMV and MER, except those portions identified as proprietary by the author and meeting exemptions stated in the Freedom of Information Act, will be available for public inspection.

FOR FURTHER INFORMATION CONTACT: Sabry Hanna, Solid Minerals Program Lead, phone: 202-912-7720, email: shanna@blm.gov, or at the address provided in the ADDRESSES section. Persons who use a telecommunications device for the deaf (TDD) may call the Federal Relay Service (FRS) at 1-800-877-8339 to contact Mr. Hanna during normal business hours. The FRS is available 24 hours a day, 7 days a week, to leave a message or question for Mr. Hanna. You will receive a reply during normal business hours.

SUPPLEMENTARY INFORMATION: An application to lease Federal coal in Tuscaloosa County, Alabama, for 5,704.52 acres of Federal coal reserves, was filed with the BLM on August 13, 2009. The EA analyzes and discloses the potential direct, indirect, and cumulative impacts of leasing and subsequent mining of the proposed LBA tract. The tract contains an estimated 24 million tons of coal recoverable by underground mining. The lands are described as follows:

Huntsville Meridian, Alabama

T. 18 S., R. 8 W.,

sec. 17, NE¼, SE¼, SW¼, E½NW¼, and SW¼NW¼;

sec. 18, SE¼, E½SW¼, and SW¼ SW¼;

sec. 28, W½SW¼ and SE¼NW¼;

sec. 33, SW¼ NW¼.

T. 19 S., R. 8 W.,

sec. 4, SE ¼NW¼;

sec. 11, E½NW¼;

sec. 18, SW¼ and W½NW¼.

T. 18 S., R. 9 W.,

sec. 21, NE¼SE¼;

sec. 22, SW¼NE¼, S½SE¼, NW¼SE¼, SW¼, and SE¼NW¼;

sec. 24, NE¼, E½SE¼, NW¼SE¼, SW¼, E½NW¼, and SW¼NW¼;

sec. 26, NE¼, SE ¼, SW¼, and E½NWI/4;

sec. 27, W½NE¼, SE¼, SW¼, and NW¼;

sec. 28, N½SE ¼;

sec. 33, E½NE¼ and NE¼SE ¼;

sec. 34, NE¼, SE¼, N½SW¼, and NW¼;

sec. 35, N½NE¼, SE¼NE¼, E½SE¼, SW¼SE¼, W ½ SW ¼ , N½NW¼ and SW ¼ NW¼.

T. 19 S., R. 9 W.,

sec. 1, NE¼ and E½NW¼;

sec. 12, NE¼, SE¼, E½SW¼, and E½NW¼;

sec. 14, SE¼ and NW¼

Total Acres: 5,704.52 acres.

Through this notice, the BLM is inviting the public to provide comments regarding the LBA and EA, and, also, to submit comments on the FMV and MER for the proposed LBA tract. All public comments, whether written or oral, will receive consideration prior to the BLM's decision regarding the leasing of the Federal coal contained in the tracts.

The BLM usually holds a public hearing in the local community where the tracts are located. However, due to the COVID-19 National Emergency and the uncertainty of Federal, State, and local social distancing guidelines, the BLM is holding the virtual public hearing to ensure staff and interested community members can participate safely. The presentation and comments received during the virtual meeting will be recorded. All public comments, whether written or oral, will receive consideration prior to the BLM's decision regarding the leasing of the Federal coal. Public comments on the EA should address the potential environmental impacts of the proposed action. Public comments on the FMV and MER for the proposed lease tract may address, but do not have to be limited to, the following:

1. The quality and quantity of the Federal coal resource;

2. The mining method or methods to be employed to obtain the MER of the coal resource, including the name of the coal bed(s) to be mined, timing and rate of production, restriction of mining, and the inclusion of the tracts in an existing mining operation;

3. The price that the mined coal would bring when sold;

4. Costs, including mining and reclamation, and the anticipated timing of production;

5. The percentage rate at which anticipated income streams should be discounted, either with inflation, or in the absence of inflation, in which case the anticipated rate of inflation should be given;

6. Depreciation, depletion, amortization, and other tax accounting factors; and

7. The value of any privately held mineral or surface estate in the mining area.

The Fair Market Value of the coal developed by BLM may or may not change as a result of comments received from the public and changes in the market conditions between now and when final economic evaluations are completed.

Any proprietary information or data that you submit to the BLM must be marked as confidential to assure the data will be treated in accordance with the applicable laws and regulations governing the confidentiality of such information or data. A copy of the comments submitted by the public on the LBA, EA, FMV, and MER for the tracts, except those portions identified as proprietary and that meet one of the exemptions in the Freedom of Information Act, will be available for public inspection at the address listed in the ADDRESSES section, during regular business hours (8 a.m. to 4:30 p.m.), Monday through Friday.

Before including your address, phone number, email address, or other personal identifying information in your comment, you should be aware that your entire comment—including your personal identifying information—may be made public at any time. While you may request in your comment to withhold your personal identifying information from public review, the BLM cannot guarantee that it can do so.

(Authority: 40 CFR 1506.6; 43 CFR 3422.1, 3425.3, and 3425.4.)

Mitchell Leverette,
State Director.

[FR Doc. 2020-18211 Filed 8-19-20; 8:45 am]

BILLING CODE 4310-GJ-P